DEPARTMENT OF DEFENSE

Office of the Secretary

[Docket ID DOD-2012-OS-0073]

Privacy Act of 1974; System of Records

AGENCY: U.S. Strategic Command (USSTRATCOM), DoD.

ACTION: Notice to add a system of records.

SUMMARY: The U.S. Strategic Command proposes to add a new system of records to its inventory of record systems subject to the Privacy Act of 1974 (5 U.S.C. 552a), as amended. The blanket (k)(1) exemption applies to this systems of records to accurately describe the basis for exempting disclosure of classified information that is or may be contained in the records.

DATES: This proposed action will be effective on July 20, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Mike L. Vance, U.S. Strategic Command (USSTRATCOM) J663, 901 SAC Boulevard, Suite 3J11, Offutt Air Force Base, NE 68113-6020; telephone 402-232-5527.

SUPPLEMENTARY INFORMATION: The U.S. Strategic Command notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on June 11, 2012, to the House Committee on Oversight and Government Reform, the Senate Committee on Governmental Affairs, and the Office of Management and Budget (OMB) pursuant to paragraph 4c of Appendix I to OMB Circular No. A-130, “Federal Agency Responsibilities for Maintaining Records about Individuals”, dated February 8, 1996 (February 20, 1996, 61 FR 6427).

Dated: June 15, 2012.
Aaron Siegel,
Alternate OSD Federal Register Liaison Officer, Department of Defense.

FSTRATCOM 02

System name:

Joint Satellite Communications (SATCOM) Management Enterprise (JSME).

System location:

Primary servers: Global SATCOM Support Center (GSSC), Building 1471, Room 210, Peterson Air Force Base, CO 80914-4500. Back-up servers: U.S. Strategic Command (USSTRATCOM), Building 500, Suite BB30, 901 SAC Boulevard, Offutt Air Force Base, NE 68113-6020.

Categories of individuals covered by the system:

Active duty, Reserve, and National Guard military members; Government civilians; and contractors with a requirement for system access in order to perform their SATCOM operations and management duties.

Categories of records in the system:

Name, rank/title, work phone numbers, work email addresses, and organization.

Authority for maintenance of the system:

Department of Defense (DoD) Instruction 8500.2, Information Assurance Implementation; Chairman of the Joint Chiefs of Staff Instruction 6250.01, Satellite Communications; USSTRATCOM Instruction (SI) 714-01, DoD Gateways (Standardized Tactical Entry Point/Teleport); SI 714-02, SATCOM System Expert (SSE) and Consolidated SSE Responsibilities; SI 714-03, SATCOM Support Center Management; SI 714-04, Consolidated SATCOM Management Policies and Procedures; and SI 714-05, SATCOM Electromagnetic Interference (EMI) Resolution Procedures.

Purpose(s):

JSME collects and maintains authorized users and points of contact for account management, internal housekeeping, access control, need-to-know determinations, and operational requirements for satellite communications.

Routine uses of records maintained in the system, including categories of users and the purposes of such uses:

In addition to those disclosures generally permitted under 5 U.S.C. 552a (b) of the Privacy Act of 1974, these records contained therein may specifically be disclosed outside the DoD as a routine use pursuant to 5 U.S.C. 552a (b) (3) as follows:

The DoD `Blanket Routine Uses' apply to this system.

Policies and practices for storing, retrieving, accessing, retaining, and disposing of records in the system:

Storage:

Electronic storage media.

Retrievability:

By individual's name or organization.

Safeguards:

Access to the system is only available via the Secret Internet Protocol Router Network (SIPRNet), which requires a login and password for access. Access to PII also requires a system login and password, except to access PII for those individuals designated as customer support points of contact for their organizations. System servers are maintained within secured buildings in areas accessible only to persons having an official need to know and who are properly trained and screened.

Retention and disposal:

Disposition pending (until the National Archives and Records Administration approves retention and disposal schedule, records will be treated as permanent).

System manager(s) and address:

U.S. Strategic Command J663, 901 SAC Boulevard, Suite 3J11, Offutt Air Force Base, NE 68113-6020.

Notification procedure:

Individuals seeking to determine whether information about themselves is contained in this system should address written inquiries to the JSME Project Manager, U.S. Strategic Command J663, 901 SAC Boulevard, Suite 3J11, Offutt Air Force Base, NE 68113-6020.

For verification purposes, individuals should provide their full name, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.

Record access procedures:

Individuals seeking access to information about themselves contained in this system should address written inquiries to the JSME Project Manager, U.S. Strategic Command J663, 901 SAC Boulevard, Suite 3J11, Offutt Air Force Base, NE 68113-6020.

For verification purposes, individuals should provide their full name, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.

Contesting record procedures:

Individuals seeking to contest information contained in this system should address written inquiries to the JSME Project Manager, U.S. Strategic Command J663, 901 SAC Boulevard, Suite 3J11, Offutt Air Force Base, NE 68113-6020.

Record source categories:

From the individual and privileged system users.

Exemptions claimed for the system:

An exemption rule for this system has been promulgated in accordance with requirements of 5 U.S.C. 553(b)(1), (2), and (3), and published in 32 CFR part 806b. For additional information contact the system manager.

[FR Doc. 2012-15044 Filed 6-19-12; 8:45 am]

BILLING CODE 5001-06-P